DEPARTMENT OF DEFENSE

[Docket ID DOD-2011-OS-0036]

2 CFR Chapter XI

5 CFR Chapter XXVI

32 CFR Chapters I, V, VI, VII, XII, and Subtitle A

33 CFR Chapter II

36 CFR Chapter III

40 CFR Chapter VII

48 CFR Chapters 1, 2, 52, and 54

Reducing Regulatory Burden; Retrospective Review Under E.O. 13563

AGENCY: Department of Defense, Office of the Secretary.

ACTION: Request for information.

SUMMARY: In response to President Obama's Executive Order 13563, “Improving Regulation and Regulatory Review,” the Department of Defense invites public comments on how it can change, streamline, or repeal its regulations. DoD will continue to work with the public and the business community to determine how its regulations can increase efficiency, transparency, and provide accountability.

DATES: Comments are requested by April 8, 2011.

ADDRESSES: You may submit comments, identified by docket number and title, by any of the following methods:

• Federal Rulemaking Portal: http://www.regulations.gov. Follow the instructions for submitting comments.

• Mail: Federal Docket Management System Office, 1160 Defense Pentagon, OSD Mailroom 3C843, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Robert Cushing, Jr., 703-696-5282.

SUPPLEMENTARY INFORMATION: DoD regulations may be viewed by going to the eCFR at http://ecfr.gpoaccess.gov/cgi/t/text/text-idx?c=ecfr&tpl=%2Findex.tpl and searching titles 2, 5, 32, 33, 36, 40, and/or 48.

Dated: March 21, 2011.
Morgan F. Park,
Alternate OSD Federal Register Liaison Officer, Department of Defense.

[FR Doc. 2011-7051 Filed 3-24-11; 8:45 am]

BILLING CODE 5001-06-P